DEPARTMENT OF COMMERCE

International Trade Administration

[A-580-908]

Passenger Vehicle and Light Truck Tires From the Republic of Korea: Final Results of Antidumping Duty Administrative Review; 2021-2022

AGENCY: Enforcement and Compliance, International Trade Administration, Department of Commerce.

SUMMARY: The U.S. Department of Commerce (Commerce) determines that Hankook Tire & Technology Co., Ltd. (Hankook TT), Nexen Tire Corporation (Nexen), and Kumho Tire Co., Inc. sold subject merchandise in the United States at prices below normal value during the period of review (POR) January 6, 2021, through June 30, 2022.

DATES: Applicable February 5, 2024.

FOR FURTHER INFORMATION CONTACT: Jun Jack Zhao or Charles DeFilippo, AD/CVD Operations, Office VII, Enforcement and Compliance, International Trade Administration, U.S. Department of Commerce, 1401 Constitution Avenue NW, Washington, DC 20230; telephone: (202) 482-1396 and (202) 482-3979, respectively.

SUPPLEMENTARY INFORMATION:

Background

On August 3, 2023, Commerce published the Preliminary Results of this review in the Federal Register.¹ We invited interested parties to comment on the Preliminary Results.

¹ See Passenger Vehicle and Light Truck Tires from the Republic of Korea: Preliminary Results of Antidumping Duty Administrative Review; 2021-2022; 88 FR 51296 (August 3, 2023) (Preliminary Results), and accompanying Preliminary Decision Memorandum (PDM).

On November 21, 2023, we extended the deadline for the final results, in accordance with section 751(a)(3)(A) of the Tariff Act of 1930, as amended (the Act), and 19 CFR 351.213(h)(2).² The deadline for the final results of this review is January 30, 2024.

² See Memorandum, “Extension of Deadline for the Final Results of Antidumping Duty Administrative Review,” dated November 21, 2023.

These final results cover three producers and/or exporters of subject merchandise.³ Based on an analysis of the comments received, we made certain changes to the weighted-average dumping margins determined for Hankook TT and Nexen. The weighted-average dumping margins are listed in the “Final Results of Review” section, below. Commerce conducted this review in accordance with section 751(a) of the Act.

³ See Initiation of Antidumping and Countervailing Duty Administrative Review, 87 FR 54463 (September 6, 2022).

Scope of the Order ⁴

⁴ See Passenger Vehicle and Light Truck Tires From the Republic of Korea, Taiwan, and Thailand: Antidumping Duty Orders and Amended Final Affirmative Antidumping Duty Determination for Thailand, 86 FR 38011 (July 19, 2021) (Order).

The merchandise covered by the Order is passenger vehicle and light truck tires.

For a complete description of the scope of the Order, see the Issues and Decision Memorandum.⁵

⁵ See Memorandum, “Decision Memorandum for the Final Results of the Antidumping Duty Administrative Review: Passenger Vehicle and Light Truck Tires from the Republic of Korea; 2021-2022,” dated concurrently with, and hereby adopted by, this notice (Issues and Decision Memorandum).

Analysis of Comments Received

We addressed all issues raised in the case and rebuttal briefs in the Issues and Decision Memorandum, which is hereby adopted with this notice. The issues are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review and analysis of the comments received from parties, we made certain changes to Hankook TT's and Nexen's margin calculations. For a discussion of these changes, see the Issues and Decision Memorandum.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this review, we have calculated a weighted-average dumping margin for Hankook TT and Nexen that are not zero, de minimis, or determined entirely on the basis of facts available. Accordingly, Commerce has assigned a dumping margin to the non-examined company, Kumho Tire Co., Inc., that is equal to the weighted average of the dumping margins calculated for Hankook TT and Nexen, weighted by the publicly ranged total U.S. sales value for each respondent, consistent with the guidance in section 735(c)(5)(A) of the Act.⁶

⁶ See Memorandum, “Rate for Non-Examined Companies,” dated concurrently with this notice.

Final Results of Review

We are assigning the following estimated weighted-average dumping margins to the firms listed below for the period January 6, 2021, through June 30, 2022:

Producer or exporter | Weighted- average dumping margin (percent)
Hankook Tire & Technology Co., Ltd ⁷ | 6.30
Nexen Tire Corporation | 4.29
Kumho Tire Co., Inc | 5.40

Disclosure

⁷ In the original investigation, Commerce noted that Hankook Tire Mfg. Co., Ltd. and Hankook Tire Co., Ltd. are alternative names for Hankook Tire & Technology Co. Ltd. See Passenger Vehicle and Light Truck Tires from the Republic of Korea: Preliminary Affirmative Determination of Sales at Less than Fair Value, Postponement of Final Determination and Extension of Provisional Measures, 86 FR 501 (January 6, 2021), and accompanying Preliminary Decision Memorandum at 2 (n. 9).

Commerce intends to disclose the calculations performed in connection with these final results of review to parties in this review within five days after public announcement of the final results or, if there is no public announcement, within five days of the date of publication of this notice in the Federal Register, in accordance with 19 CFR 351.224(b).

Assessment

Commerce intends to issue assessment instructions to CBP no earlier than 35 days after the date of publication of the final results of this review in the Federal Register.⁸ If a timely summons is filed at the U.S. Court of International Trade, the assessment instructions will direct CBP not to liquidate relevant entries until the time for parties to file a request for a statutory injunction has expired (i.e., within 90 days of publication).

⁸ See Notice of Discontinuation of Policy to Issue Liquidation Instructions After 15 Days in Applicable Antidumping and Countervailing Duly Administrative Proceedings, 86 FR 3995 (January 15, 2021).

Where the respondent reported reliable entered values, we calculated importer—(or customer-) specific ad valorem rates by aggregating the dumping margins calculated for all U.S. sales to each importer (or customer) and dividing this amount by the total entered value of the sales to each importer (or customer).⁹ Where Commerce calculated a weighted-average dumping margin by dividing the total amount of dumping for reviewed sales to that party by the total sales quantity associated with those transactions, Commerce will direct CBP to assess importer—(or customer-) specific assessment rates based on the resulting per-unit rates.¹⁰ Where an importer—(or customer-) specific ad valorem or per-unit rate is greater than de minimis (i.e., 0.50 percent), Commerce will instruct CBP to collect the appropriate duties at the time of liquidation.¹¹ Where an importer—(or customer-) specific ad valorem or per-unit rate is zero or de minimis, Commerce will instruct CBP to liquidate appropriate entries without regard to antidumping duties.¹²

⁹ See 19 CFR 351.212(b)(1).

¹⁰ Id.

¹¹ Id.

¹² See 19 CFR 351.106(c)(2).

For the company not selected for individual review, we will assign an assessment rate based on the methodology described in the “Rates for Non-Examined Companies” section, above.

Consistent with Commerce's assessment practice, for entries of subject merchandise during the POR produced by Hankook, Nexen, or the non-examined companies for which the producer did not know that its merchandise was destined for the United States, we will instruct CBP to liquidate unreviewed entries at the all-others rate if there is no rate for the intermediate company(ies) involved in the transaction.¹³

¹³ For a full discussion of this practice, see Antidumping and Countervailing Duty Proceedings: Assessment of Antidumping Duties, 68 FR 23954 (May 6, 2003).

Cash Deposit Requirements

The following cash deposit requirements will be effective for all shipments of subject merchandise entered, or withdrawn from warehouse, for consumption on or after the publication date of the final results of this administrative review, as provided for by section 751(a)(2)(C) of the Act: (1) the cash deposit rates for the companies listed in these final results will be equal to the weighted-average dumping margins established in the final results of this review; (2) for merchandise exported by producers or exporters not covered in this review but covered in a prior segment of this proceeding, the cash deposit rate will continue to be the company-specific rate published for the most recently completed segment in which the company was reviewed; (3) if the exporter is not a firm covered in this review or the original less-than-fair-value (LTFV) investigation, but the producer is, the cash deposit rate will be the rate established for the most recently completed segment of this proceeding for the producer of the subject merchandise; and (4) the cash deposit rate for all other producers or exporters will continue to be 21.74 percent,¹⁴ the all-others rate established in the LTFV investigation. These cash deposit requirements, when imposed, shall remain in effect until further notice.

¹⁴ See Passenger Vehicle and Light Truck Tires from the Republic of Korea, Taiwan, and Thailand: Antidumping Duty Orders and Amended Final Affirmative Antidumping Duty Determination for Thailand, 86 FR 38011 (July 19, 2021).

Notification to Importers

This notice serves as a final reminder to importers of their responsibility under 19 CFR 351.402(f)(2) to file a certificate regarding the reimbursement of antidumping duties prior to liquidation of the relevant entries during this POR. Failure to comply with this requirement could result in the presumption that reimbursement of antidumping duties occurred and the subsequent assessment of double antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results in accordance with sections 751(a)(1) and 777(i)(1) of the Act and 19 CFR 351.213(h) and 351.221(b)(5) of Commerce's regulations.

Dated: January 30, 2024.
Abdelali Elouaradia,
Deputy Assistant Secretary for Enforcement and Compliance.

Appendix I

List of Topics Discussed in the Issues and Decision Memorandum

I. Summary

II. Background

III. Scope of the Order

IV. Changes Since the Preliminary Results

V. Discussion of the Issues

Comment 1: Hankook's Inventory Carrying Cost Adjustment

Comment 2: Hankook's Freight Revenue Offset

Comment 3: Hankook's Affiliated-Party Sales in the Home Market

Comment 4: Hankook's Beginning Sale Dates in the U.S. Market

Comment 5: Hankook's U.S. Commissions

Comment 6: Hankook's Tire & Technology Co., Ltd.'s Name

Comment 7: Nexen's Beginning Sales Dates in the Home Market and U.S. Market

Comment 8: Nexen's Home Market Physical Characteristics

Comment 9: Nexen's Levels of Trade

Comment 10: Nexen's Home Market Logistics Revenue

VI. Recommendation

[FR Doc. 2024-02235 Filed 2-2-24; 8:45 am]

BILLING CODE 3510-DS-P